DEPARTMENT OF ENERGY

Federal Energy Regulatory Commission

[Projects Nos. 2060-005, 2084-020, 2320-005, and 2330-007 and Project No. 2869-007, New York]

Erie Boulevard Hydropower L.P. and Village of Potsdam; Notice of Availability of Draft Multiple Project Environmental Assessment

June 16, 2000.

In accordance with the National Environmental Policy Act of 1969 and the Federal Energy Regulatory Commission's (Commission) regulations, 18 CFR part 380 (Order No. 486, 52 FR 47897), the Office of Energy Projects staff has reviewed the applications for new license for the Carry Falls, Upper Raquette River, Middle Raquette River, and the Lower Raquette River Hydroelectic Projects, and the application for amendment of exemption for the Potsdam Water Power Project, located on the Raquette River in St. Lawrence County, New York, and has prepared a draft multiple project Environmental Assessment (DEA) for the projects. In the DEA, the Commission's staff has analyzed the potential environmental impacts of the existing projects and has concluded that approval of the projects, with appropriate environmental protection measures, would not constitute a major federal action significantly affecting the quality of the human environment.

Copies of the DEA are available for review in the Public Reference Branch, Room 2-A, of the Commission's offices at 888 First Street, NE, Washington, DC 20426.

Any comments should be filed within 45 days from the date of this notice and should be addressed to David P. Boergers, Secretary, Federal Energy Regulatory Commission, 888 First Street, NE, Washington, DC 20426. Please affix “Carry Falls Project No. 2060-005”, “Upper Raquette River Project No. 2084-020”, “Middle Raquette River Project No. 2320-005”, “Lower Raquette River Project No. 2330-007”, and/or “Potsdam Water Power Project No. 2869-007”, as appropriate, to all comments. For further information, please contact Charles T. Raabe at (202) 219-2811.

David P. Boergers,
Secretary.

[FR Doc. 00-15737 Filed 6-21-00; 8:45 am]

BILLING CODE 6717-01-M